FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 201234-002.

Title: Agreement by Ocean Common Carriers to Participate on the Exchange Board.

Parties: CMA CGM S.A.; Hapag-Lloyd AG; COSCO Shipping Lines Co., Ltd.; COSCO Shipping Co., Ltd; Maersk Line A/S; and Hyundai Merchant Marine Co., Ltd.

Filing Party: Ashley Craig; Venable LLP.

Synopsis: The Amendment adds HMM as a party to the Agreement and removes MOL as a party to the Agreement.

Agreement No.: 201235-002.

Title: Agreement by Ocean Common Carriers to Use Standard Service Contract Terms.

Parties: CMA CGM S.A.; Hapag-Lloyd AG; COSCO Shipping Lines Co., Ltd.; COSCO Shipping Co., Ltd; Maersk Line A/S; Hyundai Merchant Marine Co., Ltd.; and Orient Overseas Container Line Limited and OOCL (Europe) Limited (acting as a single party).

Filing Party: Ashley Craig; Venable LLP.

Synopsis: The amendment adds HMM and OOCL as parties to the Agreement and removes MOL as a party to the Agreement.

Agreement No.: 201257.

Title: Zim/ONE Slot Exchange Agreement for Empty Containers.

Parties: ZIM Integrated Shipping Services Ltd. and Ocean Network Express Pte. Ltd.

Filing Party: Carrol Hand; Ocean Network Express.

Synopsis: The Agreement authorizes ZIM and ONE to exchange space with each other for the carriage of empty containers in all U.S. trades.

Agreement No.: 201258.

Title: Maersk Line/Zim Gulf-CSA Space Charter Agreement.

Parties: Maersk Line A/S and ZIM Integrated Shipping Services Ltd.

Filing Party: Wayne Rohde, Cozen O'Connor.

Synopsis: The agreement authorizes Maersk Line to charter space to Zim on Maersk Line's UCLA service in the trade between U.S. Gulf Coast on the one hand and ports in Brazil, Colombia, Mexico and Panama on the other hand.

Agreement No.: 201259.

Title: Ocean Network Express Pte. Ltd. (ONE)/Kyowa Shipping Co., Ltd. Slot Charter Agreement.

Parties: Ocean Network Express Pte. Ltd. and Kyowa Shipping Co., Ltd.

Filing Party: Carrol Hand, Ocean Network Express.

Synopsis: The Agreement authorizes Kyowa to charter space to ONE on its South Pacific Islands Service.

Agreement No.: 201260.

Title: Ocean Network Express Pte. Ltd. (ONE)/NYK Bulk & Project Carriers Ltd. Space Charter Agreement.

Parties: Ocean Network Express Pte. Ltd. and NYK Bulk & Project Carriers Ltd.

Filing Party: Carrol Hand, Ocean Network Express.

Synopsis: The Agreement authorizes NYK to charter space to ONE on its SPL South Pacific service.

Dated: June 15, 2018.
Rachel Dickon,
Secretary.

[FR Doc. 2018-13247 Filed 6-19-18; 8:45 am]

BILLING CODE 6731-AA-P